DEPARTMENT OF THE INTERIOR

National Park Service

[2253-665]

Notice of Intent To Repatriate Cultural Items: USDA Forest Service, Coconino National Forest, Flagstaff, AZ

AGENCY: National Park Service, Interior.

ACTION: Notice.

SUMMARY: The USDA Forest Service, Coconino NF, in consultation with the appropriate Indian tribe, has determined that the cultural items meet the definition of unassociated funerary objects and repatriation to the Indian tribe stated below may occur if no additional claimants come forward. Representatives of any Indian tribe that believes itself to be culturally affiliated with the cultural items may contact the USDA Forest Service, Southwestern Region.

DATES: Representatives of any Indian tribe that believes it has a cultural affiliation with the cultural items should contact the USDA Forest Service, Southwestern Region at the address below by March 28, 2012.

ADDRESSES: Dr. Frank E. Wozniak, NAGPRA Coordinator, Southwestern Region, USDA Forest Service, 333 Broadway Blvd. SE., Albuquerque, NM 87102, telephone (505) 842-3238.

SUPPLEMENTARY INFORMATION: Notice is here given in accordance with the Native American Graves Protection and Repatriation Act (NAGPRA), 25 U.S.C. 3005, of the intent to repatriate cultural items under the control of the Coconino National Forest and in the custody of the Museum of Northern Arizona that meet the definition of unassociated funerary objects under 25 U.S.C. 3001. These unassociated funerary objects were removed from sites within the boundaries of the Coconino National Forest, Coconino County, AZ.

This notice is published as part of the National Park Service's administrative responsibilities under NAGPRA, 25 U.S.C. 3003(d)(3). The determinations in this notice are the sole responsibility of the museum, institution or Federal agency that has control of the Native American cultural items. The National Park Service is not responsible for the determinations in this notice.

History and Description of the Cultural Items

Between 1927 and 1929, two ceramic jars were removed from site NA 660 (Turkey Hill Pueblo) in Coconino County, AZ, during archeological excavations conducted by the University of Arizona and the Museum of Northern Arizona. The jars have been curated at the Museum of Northern Arizona since their removal.

Based on the ceramic collections and ceramic seriation, Turkey Hill Pueblo (site NA 660) is identified as a Northern Sinagua pueblo with pithouses that were occupied during the second half of the 13th and the first quarter of the 14th centuries A.D. Records at the Museum of Northern Arizona indicate that the items were removed from a burial context. The human remains were either left in the ground or are not locatable at the present time.

Between 1938 and 1940, eight objects were removed from site NA 862 in Coconino County, AZ, during archeological excavations conducted by the Museum of Northern Arizona. The objects have been curated at the Museum of Northern Arizona since their removal. The eight unassociated funerary objects are three ceramic bowls, one ceramic jar, one ceramic ladle, one stone scraper, one stone pendant and one bone tool.

Based on the ceramic collection and ceramic seriation, site NA 862 is identified as a Northern Sinagua residential site that was occupied during the 11th and 12th centuries A.D. Records at the Museum of Northern Arizona indicate that the items were removed from a burial context. The human remains were either left in the ground or are not locatable at the present time.

Between 1931 and 1951, two objects were removed from site NA 1814 (Juniper Terrace Site) in Coconino County, AZ, during archeological excavations conducted by the Museum of Northern Arizona. The objects have been curated at the Museum of Northern Arizona since their removal. The two unassociated funerary objects are pupae casings and pottery sherds.

Based on the ceramic collection and ceramic seriation, the Juniper Terrace Site (site NA 1814) is identified as a group of Northern Sinagua roomblocks that were occupied during the second half of the 12th and the first half of the 13th centuries A.D. Records at the Museum of Northern Arizona indicate that the items were removed from a burial context. The human remains were either left in the ground or are not locatable at the present time.

During the 1950s, five objects were removed from site NA 4266 (Piper Site) in Coconino County, AZ, during archeological excavations conducted by the Museum of Northern Arizona. The objects have been curated at the Museum of Northern Arizona since their removal. The five unassociated funerary objects are three ceramic bowls, one ball of unworked clay and one shell bracelet.

Based on the ceramic collection and ceramic seriation, site NA 4266 has been identified as a Northern Sinagua residential site that was occupied during the 11th and 12th centuries A.D. Records at the Museum of Northern Arizona indicate that the items were removed from a burial context. The human remains were either left in the ground or are not locatable at the present time.

During the early 1970s, two objects were removed from site NA 10806 in Coconino County, AZ, during archeological excavations conducted by the Museum of Northern Arizona. The objects have been curated at the Museum of Northern Arizona since their removal. The two unassociated funerary objects are one clay figurine and one shell bracelet.

Based on the ceramic collection and ceramic seriation, site NA 10806 has been identified as a Northern Sinagua residential site that was occupied during the 10th and 12th centuries A.D. Records at the Museum of Northern Arizona indicate that the items were removed from a burial context. The human remains were either left in the ground or are not locatable at the present time.

Based on the archeological evidence, the sites listed above have been identified as Northern Sinagua sites. Continuities in ethnographic materials indicate a cultural affiliation of Northern Sinagua sites in the Flagstaff area of north central Arizona with the Hopi Tribe of Arizona. Furthermore, oral traditions presented by representatives of the Hopi Tribe of Arizona, support their claims of cultural affiliation with Northern Sinagua sites in this portion of north central Arizona.

Determinations Made by the USDA Forest Service, Southwestern Region

Officials of the USDA Forest Service, Southwestern Region, and the Coconino National Forest have determined that:

• Pursuant to 25 U.S.C. 3001(3)(B), the 19 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe of Arizona.

Additional Requestors and Disposition

Representatives of any other Indian tribe that believes itself to be culturally affiliated with the unassociated funerary objects should contact Dr. Frank E. Wozniak, NAGPRA Coordinator, Southwestern Region, USDA Forest Service, 333 Broadway Blvd. SE., Albuquerque, NM 87102, (505) 842-3238 before March 28, 2012. Repatriation of the unassociated funerary objects to the Hopi Tribe, Arizona may proceed after that date if no additional claimants come forward.

The Coconino National Forest is responsible for notifying the Hopi Tribe of Arizona that this notice has been published.

Dated: February 22, 2012.
Sherry Hutt,
Manager, National NAGPRA Program.

[FR Doc. 2012-4519 Filed 2-24-12; 8:45 am]

BILLING CODE 4312-50-P